DEPARTMENT OF ENERGY

Federal Energy Regulatory Commission

Combined Notice of Filings #2

Take notice that the Commission received the following electric rate filings:

Docket Numbers: ER13-674-002.

Applicants: Midwest Independent Transmission System Operator, Inc.

Description: 02-01-13 Errata filing Att O, GG, MM to be effective 1/1/2013.

Filed Date: 2/4/13.

Accession Number: 20130204-5001.

Comments Due: 5 p.m. ET 2/25/13.

Docket Numbers: ER13-692-001.

Applicants: Midwest Independent Transmission System Operator, Inc.

Description: 2013-02-01 OASIS Errata to be effective 3/4/2013.

Filed Date: 2/4/13.

Accession Number: 20130204-5000.

Comments Due: 5 p.m. ET 2/25/13.

Docket Numbers: ER13-762-001.

Applicants: Niagara Mohawk Power Corporation, New York Independent System Operator, Inc.

Description: Correction to Reimbursement Agreement No. 1949 between Nat'l Grid and Edge Corp. to be effective 10/19/2012.

Filed Date: 2/4/13.

Accession Number: 20130204-5106.

Comments Due: 5 p.m. ET 2/25/13.

Docket Numbers: ER13-875-000.

Applicants: Southern California Edison Company.

Description: Revised Added Facilities Rate Interconnection Agmts under Trans Owner Tariff to be effective 1/1/2013.

Filed Date: 2/4/13.

Accession Number: 20130204-5002.

Comments Due: 5 p.m. ET 2/25/13.

Docket Numbers: ER13-876-000.

Applicants: ISO New England Inc.

Description: Conforming Filing to be effective 1/15/2013.

Filed Date: 2/4/13.

Accession Number: 20130204-5036.

Comments Due: 5 p.m. ET 2/25/13.

Docket Numbers: ER13-877-000.

Applicants: PJM Interconnection, L.L.C.

Description: PJM Interconnection, L.L.C. submits Notice of Cancellation of Wholesale Market Participation Agreement Dynamic Energy Resources, LLC, et al.

Filed Date: 2/4/13.

Accession Number: 20130204-5090.

Comments Due: 5 p.m. ET 2/25/13.

Docket Numbers: ER13-878-000.

Applicants: Southwest Power Pool, Inc.

Description: Revisions to Attachment AE, Section 1.2.2 to be effective 4/1/2012.

Filed Date: 2/4/13.

Accession Number: 20130204-5092.

Comments Due: 5 p.m. ET 2/25/13.

Docket Numbers: ER13-879-000.

Applicants: Josco Energy Corp.

Description: Josco Energy Baseline MBR Filing to be effective 3/8/2013.

Filed Date: 2/4/13.

Accession Number: 20130204-5096.

Comments Due: 5 p.m. ET 2/25/13.

Docket Numbers: ER13-880-000.

Applicants: Southwest Power Pool, Inc.

Description: Ministerial Revisions to Attachment V to be effective 1/15/2013.

Filed Date: 2/4/13.

Accession Number: 20130204-5107.

Comments Due: 5 p.m. ET 2/25/13.

Take notice that the Commission received the following public utility holding company filings:

Docket Numbers: PH13-13-000.

Applicants: Oaktree Capital Group, LLC.

Description: Oaktree Capital Group, LLC submits FERC-65-B Waiver Notification.

Filed Date: 2/4/13.

Accession Number: 20130204-5093.

Comments Due: 5 p.m. ET 2/25/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 4, 2013.
Nathaniel J. Davis, Sr.,
Deputy Secretary.

[FR Doc. 2013-03015 Filed 2-8-13; 8:45 am]

BILLING CODE 6717-01-P